DEPARTMENT OF TRANSPORTATION

Federal Motor Carrier Safety Administration

[Docket No. FMCSA-FMCSA-2021-0126]

Agency Information Collection Activities; Renewal of an Approved Information Collection: Financial Responsibility Motor Carriers, Freight Forwarders, and Brokers

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The purpose of this ICR titled, “Financial Responsibility Motor Carriers, Freight Forwarders, and Brokers,” is to provide registered motor carriers, property brokers, and freight forwarders a means of meeting financial responsibility filing requirements. This ICR sets forth the financial responsibility documentation requirements for motor carriers, freight forwarders, and brokers as a result of the Agency's jurisdictional statutes.

DATES: We must receive your comments on or before November 29, 2021.

ADDRESSES: You may submit comments identified by Federal Docket Management System (FDMS) Docket Number FMCSA-2021-0126 using any of the following methods:

• Federal eRulemaking Portal: http://www.regulations.gov. Follow the online instructions for submitting comments.

• Fax: 1-202-493-2251.

• Mail: Docket Operations; U.S. Department of Transportation, 1200 New Jersey Avenue SE, West Building, Ground Floor, Room W12-140, 20590-0001.

• Hand Delivery or Courier: West Building, Ground Floor, Room W12-140, 1200 New Jersey Avenue SE, Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008. (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal website. If you want us to notify you that we received your comments, please include a self-addressed, stamped envelope or postcard, or print the acknowledgement page that appears after submitting comments online. Comments received after the comment closing date will be included in the docket and will be considered to the extent practicable.

FOR FURTHER INFORMATION CONTACT: Lorenzo Allen, Lead Transportation Specialist, Office of Registration & Safety Information, West Building 6th Floor, 1200 New Jersey Avenue SE, Washington, DC 20590. Telephone: (202) 385-2465; email lorenzo.allen@dot.gov.

SUPPLEMENTARY INFORMATION: Background: The Secretary of Transportation (Secretary) is authorized to register for-hire motor carriers of property and passengers under the provisions of 49 U.S.C. 13902, surface freight forwarders under the provisions of 49 U.S.C. 13903, and property brokers under the provisions of 49 U.S.C. 13904. These persons may conduct transportation services only if they are registered pursuant to 49 U.S.C. 13901. The Secretary has delegated authority pertaining to these registration requirements to the FMCSA under 49 CFR part 387. The registration remains valid only as long as these transportation entities maintain, on file with the FMCSA, evidence of the required levels of financial responsibility pursuant to 49 U.S.C. 13906. FMCSA regulations governing the financial responsibility requirements for these entities are found at 49 CFR part 387. The information collected from these forms are summarized and displayed in the Licensing and Information system.

Forms for Endorsements, Certificates of Insurance and Other Evidence of Bodily Injury and Property Damage (BI&PD) Liability and Cargo Liability Financial Responsibility

Forms BMC-91 and BMC-91X, titled “Motor Carrier Automobile Bodily Injury and Property Damage Liability Certificate of Insurance,” and Form BMC-82, titled “Motor Carrier Bodily Injury Liability and Property Damage Liability Surety Bond Under 49 U.S.C. 13906,” provide evidence of the required coverage for bodily injury and property damage (BI & PD) liability. A Form BMC-91X filing is required when a carrier's insurance is provided by multiple companies instead of just one. Form BMC-34, titled “Household Goods Motor Carrier Cargo Liability Certificate of Insurance,” and Form BMC-83, titled “Household Goods Motor Carrier Cargo Liability Surety Bond Under 49 U.S.C. 13906,” establish a carrier's compliance with the Agency's cargo liability requirements. Only household goods (HHG) motor carriers are required to file evidence of cargo insurance with FMCSA. 49 CFR 387.303(c). Form BMC-90, titled “Endorsement for Motor Carrier Policies of Insurance for Automobile Bodily Injury and Property Damage Liability Under Section 13906, Title 49 of the United States Code,” and Form BMC-32, titled “Endorsement for Motor Common Carrier Policies of Insurance for Cargo Liability Under 49 U.S.C. 13906,” are executed by the insurance company, attached to BI & PD or cargo liability insurance policy, respectively, and forwarded to the motor carrier or freight forwarder.

Requirement To Obtain Surety Bond or Trust Fund Agreement

Form BMC-84, titled “Broker's or Freight Forwarder's Surety Bond Under 49 U.S.C. 13906,” and Form BMC-85, titled “Broker's or Freight Forwarder's Trust Fund Agreement Under 49 U.S.C. 13906 or Notice of Cancellation of the Agreement,” are filed by brokers or freight forwarders to comply with the requirement that they must have a $75,000 surety bond or trust fund agreement in effect before FMCSA will issue property broker or freight forwarder operating authority registration.

Cancellation of Prior Filings

Form BMC-35, titled “Notice of Cancellation Motor Carrier Insurance under 49 U.S.C. 13906,” Form BMC-36, titled “Motor Carrier and Broker's Surety Bonds under 49 U.S.C. 13906 Notice of Cancellation,” and Form BMC-85, titled “Broker's or Freight Forwarder's Trust Fund Agreement Under 49 U.S.C. 13906 or Notice of Cancellation of the Agreement,” can be used to cancel prior filings.

Self-Insurance

Motor carriers can also apply to FMCSA to self-insure BI & PD and/or cargo liability in lieu of filing certificates of insurance with the FMCSA, as long as the carrier maintains a satisfactory safety rating (see 49 CFR 387.309.) Form BMC-40 is the application used by carriers to apply for self-insurance authority.

Title: Financial Responsibility Motor Carriers, Freight Forwarders, and Brokers.

OMB Control Number: 2126-0017.

Type of Request: Renewal.

Respondents: For-hire Motor Carriers, Brokers, and Freight Forwarders.

Estimated Number of Respondents: 200,146.

Estimated Time per Response: The estimated average burden per response for Form BMC-40 is 40 hours. The estimated average burden per response for forms BMC-34, 35, 36, 82, 83, 84, 85, 91, and 91X is 10 minutes per form. In addition, form BMC-32 takes 10 minutes.

Expiration Date: February 28, 2022.

Frequency of Response: Certificates of insurance, surety bonds, and trust fund agreements are required when the transportation entity first registers with FMCSA and then when such coverages are changed or replaced by these entities. Notices of cancellation are required only when such certificates of insurance, surety bonds, and trust fund agreements are cancelled. The BMC-40 is filed only when a carrier seeks approval from FMCSA to self-insure its bodily injury and property damage (BI & PD) and/or cargo liability coverage.

Estimated Total Annual Burden: 49,359 hours.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this information collection.

Issued under the authority delegated in 49 CFR 1.87.

Thomas P. Keane,
Associate Administrator, Office of Research and Registration.

[FR Doc. 2021-21195 Filed 9-29-21; 8:45 am]

BILLING CODE 4910-EX-P